FEDERAL COMMUNICATIONS COMMISSION

47 CFR Part 73

[DA 01-1303; MM Docket No. 01-114, RM-10128; MM Docket No. 01-115; RM-10129]

Radio Broadcasting Services; Morgantown, KY; and Au Gres, MI

AGENCY: Federal Communications Commission.

ACTION: Proposed rule.

SUMMARY: This document proposes two allotments. The Commission requests comments on a petition filed by Green River Radio Company, proposing the allotment of Channel 256A at Morgantown, Kentucky, as the community's first local FM transmission service. Channel 256A can be allotted to Morgantown in compliance with the Commission's minimum distance separation requirements with a site restriction of 11.9 kilometers (7.4 miles) west to avoid short-spacings to the licensed sites of Station WKNK(FM), Channel 256A, Edmonton, Kentucky, and Station WKDQ(FM), Channel 258C, Henderson, Kentucky. The coordinates for Channel 256A at Morgantown are 37-15-34 North Latitude 86-48-40. See Supplementary Information, infra.

DATES: Comments must be filed on or before July 16, 2001, and reply comments on or before July 31, 2001.

ADDRESSES: Federal Communications Commission, Washington, DC 20554. In addition to filing comments with the FCC, interested parties should serve the petitioner, his counsel, or consultant, as follows: Brian M. Madden, Esq., Leventhal, Senter & Lerman, P.L.L.C., 2000 K Street, NW., Suite 600, Washington, DC 20006-1809; and Arthur V. Belendiuk, Esq., Smithwick & Belendiuk, P.C., 5028 Wisconsin Ave., NW., Suite 301, Washington, DC 20016.

FOR FURTHER INFORMATION CONTACT: Sharon P. McDonald, Mass Media Bureau, (202) 418-2180.

SUPPLEMENTARY INFORMATION: This is a synopsis of the Commission's Notice of Proposed Rule Making, MM Docket No. 01-114 and MM Docket No. 01-115, adopted May 16, 2001 , and released May 25, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission requests comments on a petition filed by Au Gres Broadcasting Company proposing the allotment of Channel 295A at Au Gres, Michigan, as the community's first local aural transmission service. Channel 295A can be allotted to Au Gres in compliance with the Commission's minimum distance separation requirements at city reference coordinates. The coordinates for Channel 295A at Au Gres are 44-02-55 North Latitude and 83-41-45 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Kentucky, is amended by adding Morgantown, Channel 256A.

3. Section 73.202(b), the Table of FM Allotments under Michigan, is amended by adding Au Gres, Channel 295A.

Federal Communications Commission.
John A. Karousos,
Chief, Allocations Branch, Policy and Rules Division, Mass Media Bureau.

[FR Doc. 01-14806 Filed 6-11-01; 8:45 am]

BILLING CODE 6712-01-U